NATIONAL AERONAUTICS AND SPACE ADMINISTRATION

[Notice: (20-078)]

NASA Astrophysics Advisory Committee; Meeting.

AGENCY: National Aeronautics and Space Administration.

ACTION: Notice of meeting.

SUMMARY: In accordance with the Federal Advisory Committee Act, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Monday, October 19, 2020, 11:00 a.m.-5:00 p.m., Tuesday, October 20, 2020, 11:00 a.m.-5:00 p.m., and Wednesday, October 21, 2020, 11:00 a.m.-5:00 p.m., Eastern Time.

FOR FURTHER INFORMATION CONTACT: Ms. KarShelia Henderson, Science Mission Directorate, NASA Headquarters, Washington, DC 20546, (202) 358-2355 or khenderson@nasa.gov.

SUPPLEMENTARY INFORMATION: The meeting will be available to the public by WebEx.

On Monday, October 19, the event address for attendees is: https://nasaenterprise.webex.com/nasaenterprise/onstage/g.php?MTID=e8ac0c8ba6c20d6158a15014539ff4fe5, the event number is 199 918 6105, and event password is ixXyezN@783.

On Tuesday, October 20, the event address for attendees is: https://nasaenterprise.webex.com/nasaenterprise/onstage/g.php?MTID=e2402f4eea7472e33624d6ab4cfee14f5, the event number is 199 163 7113, and the event password is TSpcp97Hd*5.

On Wednesday, October 21, the event address for attendees is: https://nasaenterprise.webex.com/nasaenterprise/onstage/g.php?MTID=eb739cd4ce1f20ff24be91839cbc1d217, the event number is 199 599 3836, and the event password is bKsf3Unn$57.

The agenda for the meeting includes the following topics:

—Astrophysics Division Update

—Updates on Specific Astrophysics Missions

—Reports from the Program Analysis Groups

—Reports from Specific Research and Analysis Programs

The agenda will be posted on the Astrophysics Advisory Committee web page: https://science.nasa.gov/researchers/nac/science-advisory-committees/apac.

The public may submit and upvote comments/questions ahead of the meeting through the website https://arc.cnf.io/sessions/h259/#!/dashboard that will be opened for input on October 5, 2020.

It is imperative that the meeting be held on this date to accommodate the scheduling priorities of the key participants.

Patricia Rausch,
Advisory Committee Management Officer, National Aeronautics and Space Administration.

[FR Doc. 2020-21428 Filed 9-28-20; 8:45 am]

BILLING CODE 7510-13-P